DEPARTMENT OF ENERGY

Federal Energy Regulatory Commission

[Docket No. IC20-24-000]

Commission Information Collection Activities (FERC-725A(1C)); Comment Request; Extension

AGENCY: Federal Energy Regulatory Commission.

ACTION: Notice of extension information collection and request for comments.

SUMMARY: In compliance with the requirements of the Paperwork Reduction Act of 1995, the Federal Energy Regulatory Commission (“Commission” or “FERC”) is soliciting public comment on the renewal of currently approved information collection, FERC-725A(1C) (Mandatory Reliability Standards for Bulk-Power System: Reliability Standard TOP-001-4) which will be submitted to the Office of Management and Budget (OMB) for a review of the information collection requirements.

DATES: Comments on the collection of information are due December 4, 2020.

ADDRESSES: Send written comments on the information collections to OMB through www.reginfo.gov/public/do/PRAMain. Attention: Federal Energy Regulatory Commission Desk Officer. Please identify the OMB Control Number(s) in the subject line of your comments. Comments should be sent within 30 days of publication of this notice to www.reginfo.gov/public/do/PRAMain.

A copy of the comments should also be sent to the Commission, in Docket No. IC20-20-000, by any of the following methods:

• eFiling at Commission's Website: http://www.ferc.gov/docs-filing/efiling.asp.

• U.S. Postal Service Mail: Persons unable to file electronically may mail similar pleadings to the Federal Energy Regulatory Commission, 888 First Street NE, Washington, DC 20426.

• Effective 7/1/2020, delivery of filings other than by eFiling or the U.S. Postal Service should be delivered to Health and Human Services, 12225 Wilkins Avenue, Rockville, Maryland 20852.

Instructions:

OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION: Title: FERC-725A(1C) (Mandatory Reliability Standards for Bulk-Power System: Reliability Standard TOP-001-4).

OMB Control No.: 1902-0298.

Type of Request: Three-year approval of FERC-725A(1C) to the information collection, with no changes to the reporting and recordkeeping requirements.

Abstract: In a petition dated March 6, 2017, the North American Electric Reliability Corporation (“NERC”) requested Commission approval for proposed Reliability Standard TOP-001-4 (Transmission Operations). NERC stated that the “proposed Reliability Standards address the Commission directives in Order No. 817 related to: (i) Transmission operator monitoring of non-bulk electric system (“BES”) facilities; (ii) redundancy and diverse routing of transmission operator, balancing authority, and reliability coordinator data exchange capabilities; and (iii) testing of alternative or less frequently used data exchange capabilities”. In an order on April 17, 2017,¹ the implementation of Reliability Standard TOP-001-4 and the retirement of Reliability Standard TOP-001-3 was approved.²

¹ The Delegated Letter Order is available in the Commission's eLibrary at https://elibrary.ferc.gov/idmws/common/OpenNat.asp?fileID=14560616.

² TOP-001-5 soon formerly TOP-001-4 has been approved by the commission and is being submitted for approval through Final Rule issued on September 17, 2020. Although 725A(1C) is included in the Final Rule (9/17/2020) it will be submitted to OMB in 725A because only one OMB No. can be submitted at a time to OMB.

The 60-day Federal Register notice published on August 28, 2020 (85 FR 53355) and no comments were received.

Type of Respondents: Transmission Operators (TOP) and Balancing Authorities (BA).

Estimate of Annual Burden: ³ The Commission estimates the annual public reporting burden and cost as follows.

³ Burden is defined as the total time, effort, or financial resources expended by persons to generate, maintain, retain, or disclose or provide information to or for a Federal agency. For further explanation of what is included in the information collection burden, refer to 5 Code of Federal Regulations 1320.3.

Information collection requirements | Number of respondents & type of entity ⁴ | Annual number of responses per respondent | Total number of responses | Average burden hours & cost per response ($) | Total annual burden hours & total annual cost ($)
| (1) | (2) | (1) * (2) = (3) | (4) ⁵ | (3) * (4) = (5)
FERC-725A(1C)
TOP-001-4 ⁶
Reporting (R10, R20, & R21), ongoing | 321 (TOP) | 1 | 321 | 3 hrs.; $210.57 | 963 hrs.; $67,592.97.
Recordkeeping, ongoing | 321 (TOP) | 1 | 321 | 2 hrs.; $82.06 | 642 hrs.; $26,341.26.
TOP Sub-Totals |  |  |  | 5 hrs.; $292.63 | 1,605 hrs.; $93,934.23.
Reporting (R23 & R24), ongoing | 97 (BA) | 1 | 97 | 2 hrs.; $140.38 | 194 hrs.; $13,616.86.
Recordkeeping, ongoing | 97 (BA) | 1 | 97 | 4 hrs.; $164.12 | 388 hrs.; $15,919.64.
BA Sub-Totals |  |  |  | 6 hrs.; $304.50 | 582 hrs.; $29,536.50.
FERC-725A(1C) ongoing total |  |  |  |  | 2,187 hrs.; $123,470.73.

Comments: Comments are invited on: (1) Whether the collection of information is necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

⁴ Our estimates are based on the NERC Compliance Registry of 7/17/2020, which indicates there are 321 entities registered as TOPs and 97 entities registered as BAs within the United States. One entity may be registered as having several roles.

⁵ The hourly cost figures, for salary plus benefits, for the reliability standards are based on Bureau of Labor Statistics (BLS) information (at http://www.bls.gov/oes/current/naics2_22.htm), as of May 2019. For reporting requirements, an electrical engineer (code 17-2071) is $70.19/hour; for the recordkeeping requirements, an information and record clerk (code 43-4199) is $41.03/hour.

⁶ Requirement R21 (applicable to TOPs in ongoing yrs.) covers quarterly testing and associated reporting and recordkeeping requirements. Requirement R24 (applicable to BAs in ongoing yrs.) covers quarterly testing and associated engineering and recordkeeping requirements.

Dated: October 28, 2020.
Nathaniel J. Davis, Sr.,
Deputy Secretary.

[FR Doc. 2020-24454 Filed 11-3-20; 8:45 am]

BILLING CODE 6717-01-P